POSTAL SERVICE

39 CFR Part 20

International Competitive Services Product and Price Changes

AGENCY: Postal Service™.

ACTION: Final rule.

SUMMARY: The Postal Service is revising Mailing Standards of the United States Postal Service, International Mail Manual (IMM®), to reflect the prices, product features, and classification changes to Competitive Services and other minor changes, as established by the Governors of the Postal Service.

DATES: Effective January 9, 2022.

FOR FURTHER INFORMATION CONTACT: Dale Kennedy at 202-268-6592 or Kathy Frigo at 202-268-4178.

SUPPLEMENTARY INFORMATION: New prices will be posted under Docket Number CP2022-22 on the Postal Regulatory Commission's website at http://www.prc.gov.

Over the course of time, mailing services to countries change due to a variety of reasons. The Postal Service is updating IMM Exhibit 292.45a to reflect that International Priority Airmail® (IPA®) service is available to Sudan.

In addition, the Postal Service is extending USPS Tracking Plus® service to certain international products, allowing customers to request the Postal Service retain scan data, or scan and signature data, for certain pieces beyond the Postal Service's standard data retention period, for up to 7 years. USPS Tracking Plus service is available for certain pieces sent via Priority Mail Express International® service (PMEI), Priority Mail International® (PMI) service, and single-piece First-Class Package International Service® (FCPIS®) for which Electronic USPS Delivery Confirmation International Service is available, and certain pieces for those services for which insurance has been purchased (not to include Global Express Guaranteed® (GXG®)). For pricing, see the Postal Explorer® website at https://pe.usps.com. Customers may request USPS Tracking Plus service online at www.usps.com or through a Shipping Services File.

This final rule describes the international price and classification changes and the corresponding mailing standards changes for the following Competitive Services:

• Global Express Guaranteed.

• Priority Mail Express International.

• Priority Mail International.

• First-Class Package International Service.

• International Priority Airmail® (IPA®).

• International Surface Air Lift® (ISAL®).

• Direct Sacks of Printed Matter to One Addressee (Airmail M-bag® services).

• The following competitive international extra services and fees:

• International Insurance.

• Certificate of Mailing.

• International Registered Mail.

• International Return Receipt.

• International Postal Money Orders.

• International Money Order Inquiry Fee.

• International Money Transfer Service.

• Customs Clearance and Delivery Fee.

New prices will be located on the Postal Explorer website at https://pe.usps.com.

Global Express Guaranteed

Global Express Guaranteed (GXG) service provides fast international shipping, with international transportation and delivery provided through an alliance with FedEx Express®. The price increase for GXG service averages 2.3 percent.

The Postal Service provides Commercial Base® pricing to online customers who prepare and pay for GXG shipments via USPS-approved payment methods (other than Click-N-Ship® service), with a discount below the published retail prices for GXG service. Customers who prepare GXG shipments via Click-N-Ship service will continue to pay retail prices. Commercial Plus® prices are set to match the Commercial Base prices.

Priority Mail Express International

Priority Mail Express International (PMEI) service provides fast service to approximately 180 countries in 3-5 business days for many major markets, although the actual number of days may vary based upon origin, destination, and customs delays. PMEI with Money-Back Guarantee service is available for certain destinations. (Due to COVID-19 service impacts, PMEI with Money-Back Guarantee service has been suspended for several destinations until further notice. For more information, see the USPS Service Updates page on www.usps.com.) The price increase for PMEI service averages 3.2 percent. The Commercial Base price provides a discount below the published retail prices for customers who prepare and pay for PMEI shipments via permit imprint, online at USPS.com®, or as registered end-users using an authorized PC Postage vendor (with the exception of Click-N-Ship service). Customers who prepare PMEI shipments via Click-N-Ship service pay retail prices. Commercial Plus will be equivalent to Commercial Base; however, deeper discounting may still be available to customers through negotiated service agreements.

The Postal Service will continue to include PMEI service in customized contracts offered to customers who meet certain revenue thresholds and are willing to commit a larger amount of revenue to the USPS® for PMEI service and PMI service.

PMEI flat rate pricing continues to be available for Flat Rate Envelopes.

Priority Mail International

Priority Mail International (PMI) is an economical way to send merchandise and documents to approximately 180 countries in 6-10 business days for many major markets, although the actual number of days may vary based upon origin, destination, and customs delays. The price increase for PMI service averages 3.7 percent. The Commercial Base price provides a discount below the published retail prices for customers who prepare and pay for PMI items via permit imprint, online at USPS.com, or as registered end-users using an authorized PC Postage vendor (with the exception of Click-N-Ship). Customers who prepare PMI shipments via Click-N-Ship pay retail prices. Commercial Plus prices will be equivalent to Commercial Base; however, deeper discounting may still be made available to customers through negotiated service agreements.

The Postal Service will continue to include PMI service in customized contracts offered to customers who meet certain revenue thresholds and are willing to commit to a larger amount of revenue to the USPS for PMEI and PMI.

PMI flat rate pricing continues to be available for Flat Rate Envelopes, Small Flat Rate Boxes, and Medium and Large Flat Rate Boxes.

First-Class Package International Service

First-Class Package International Service (FCPIS) is an economical international service for small packages not exceeding 4 pounds in weight and $400 in value. The price increase for FCPIS averages 4.2 percent. The Commercial Base price provides a discount below the published retail prices for customers who prepare and pay for FCPIS items via permit imprint or by USPS-approved online payment methods. Customers who prepare FCPIS shipments via Click-N-Ship service pay retail prices. Commercial Plus prices will be equivalent to Commercial Base; however, deeper discounting will be made available to customer through negotiated service agreements.

Electronic USPS Delivery Confirmation International service (E-USPS DELCON INTL®) is available for FCPIS items to select destination countries at no charge.

International Priority Airmail and International Surface Air Lift

International Priority Airmail (IPA) service, including IPA M-bags, is a commercial service designed for volume mailings of all First-Class Mail International postcards, letters, and large envelopes (flats), and for volume mailings of FCPIS packages (small packets) weighing up to a maximum of 4.4 pounds. IPA shipments are typically flown to foreign destinations (exceptions apply to Canada and Mexico) and are then entered into that country's air or surface priority mail system for delivery. The price increase for IPA letters, flats, and packets is 4.9 percent, and there is no increase for IPA M-bags. International Surface Airlift (ISAL) is like IPA except that once flown to the foreign destination, ISAL is entered into that country's air or surface nonpriority mail system for delivery. The price increase for ISAL letters, flats, and packets is 8.2 percent, and the price increase for ISAL M-bags is 2.9 percent.

Direct Sacks of Printed Matter to One Addressee (Airmail M-Bags)

An Airmail M-bag is a direct sack of printed matter sent to a single foreign addressee at a single address. Prices are based on the weight of the sack. The price increase for Airmail M-bag service averages 5.0 percent.

International Extra Services and Fees

Depending on country destination and mail type, customers may add a variety of extra services to their outbound shipments and pay a variety of fees. The Postal Service proposes to increase fees for certain competitive international extra services as follows:

• GXG insurance: There is no charge for GXG insurance for coverage up to $100. The fee for GXG insurance will increase to $1.35 for each additional $100 or fraction over $100, up to a maximum indemnity of $2,499 per shipment (the maximum indemnity varies by country).

GXG insurance | Fee
$100 | $0.00
Each additional $100 or fraction over $100 | 1.35
Maximum insurance $2,499 (varies by country).

• PMEI and PMI insurance: There is no charge for PMEI and PMI merchandise insurance coverage up to $200. The fee for PMEI and PMI merchandise insurance for each additional $100 or fraction over $200 is set forth in the table below, up to a maximum indemnity of $5,000 (the maximum indemnity varies by country).

Indemnity limit not over | Fee
Up to $200 | $0.00
$200.01-$300.00 | 7.15
$300.01-$400.00 | 9.05
$400.01-$500.00 | 10.95
$500.01-$600.00 | 12.85
$600.01-$700.00 | 14.75
$700.01-$800.00 | 16.60
$800.01-$900.00 | 18.50
$18.50 plus $1.90 per $100 or fraction thereof over $900 in declared value. Maximum insurance $5,000 (varies by country).

• Certificate of mailing service: Prices for competitive international certificate of mailing service will be as follows:

Certificate of Mailing
Individual pieces | Fee
Individual article (PS Form 3817) | $1.65
Duplicate copy of PS Form 3817 or PS Form 3665 (per page) | 1.65
Firm mailing sheet (PS Form 3665), per piece (minimum 3) First-Class Mail International only | 0.57
Bulk quantities
For first 1,000 pieces (or fraction thereof) | 9.35
Each additional 1,000 pieces (or fraction thereof) | 1.20
Duplicate copy of PS Form 3606 | 1.65

• International Registered Mail service: The fee for competitive international registered mail will increase to $17.15.

• International return receipt service: The fee for competitive international return receipt service will increase to $4.75.

• Customs clearance and delivery fee: The competitive customs clearance and delivery fee per dutiable item will increase to $7.05.

• Pickup on Demand: The fee for pickup on demand will remain at $25.00.

• International Postal Money Orders: The fee for international postal money orders will increase to $12.25.

• International Money Order Inquiry: The fee for international money orders inquiry will increase to $9.00.

• International Money Transfer Service (Sure Money® service): Prices for international money transfer service will be as follows:

International money transfer service (Sure Money) | Fee
$0.01-$750.00 | $17.10
$750.01-$1500.00 | 24.75
Refunds | 37.50
Change of Recipient | 19.95

The Postal Service hereby adopts the following changes to Mailing Standards of the United States Postal Service, International Mail Manual (IMM), which is incorporated by reference in the Code of Federal Regulations. See 39 CFR 20.1.

List of Subjects in 39 CFR Part 20

Foreign relations, International postal services.

Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of the Mailing Standards of the United States Postal Service, International Mail Manual (IMM) as follows:

* * * * *

Mailing Standards of the United States Postal Service, International Mail Manual (IMM)

* * * * *

2 Conditions for Mailing

* * * * *

220 Priority Mail Express International

* * * * *

222 Eligibility

* * * * *

[Revise 222.7 to read as follows:]

222.7 Extra Services

222.71 Merchandise Insurance

Additional merchandise insurance coverage above $200, up to a maximum of $5,000, may be purchased at the sender's option. See Exhibit 322.2 for individual country merchandise insurance limits. See Notice 123, Price List, for the fee schedule for optional Priority Mail Express International merchandise insurance coverage.

222.72 Tracking Plus

Customers may purchase USPS Tracking Plus service for certain pieces, when available, online at usps.com or through a Shipping Services File. For pricing, see Notice 123, Price List.

* * * * *

230 Priority Mail International

* * * * *

232 Eligibility

* * * * *

232.9 Extra Services

* * * * *

[Add a new section to read as follows:]

232.93 Tracking Plus

Customers may purchase USPS Tracking Plus service for certain pieces, when available, online at usps.com or through a Shipping Services File. For pricing, see Notice 123, Price List.

* * * * *

250 First-Class Package International Service

* * * * *

252 Eligibility

* * * * *

252.5 Extra Services

* * * * *

[Add a new section to read as follows:]

252.54 Tracking Plus

USPS Tracking Plus service is available for certain pieces sent via single-piece First-Class Package International Service for which Electronic USPS Delivery Confirmation International Service is available. Customers may purchase USPS Tracking Plus service for certain pieces, when available, online at usps.com or through a Shipping Services File. For pricing, see Notice 123, Price List.

* * * * *

292 International Priority Airmail (IPA) Service

* * * * *

292.4 Mail Preparation

* * * * *

292.45 IPA Foreign Office of Exchange Codes and Price Groups

* * * * *

Exhibit 292.45a

IPA Foreign Office of Exchange Codes and Price Groups

[In alphabetical order, add an entry for Sudan to read as follows:]

Country labeling name | Foreign Office of Exchange code | Price group
* * * * *
Sudan | KRT | 5
* * * * *

* * * * *

3 Extra Services

* * * * *

[Add a new part to read as follows:]

390 Tracking Plus

The Postal Service offers USPS Tracking Plus service for certain international products, allowing customers to request the Postal Service retain scan data, or scan and signature data, for certain pieces beyond the Postal Service's standard data retention period, for up to 7 years. USPS Tracking Plus service is available for certain pieces sent via Priority Mail Express International service, Priority Mail International service, and single-piece First-Class Package International Service for which Electronic USPS Delivery Confirmation International Service is available, and certain pieces for those services for which insurance has been purchased (not to include Global Express Guaranteed service). For pricing, see Notice 123, Price List. Customers may request USPS Tracking Plus service for certain pieces, when available, online at usps.com or through a Shipping Services File.

* * * * *

We will publish an appropriate amendment to 39 CFR part 20 to reflect these changes.

Ruth Stevenson,
Chief Counsel, Ethics and Legal Compliance.

[FR Doc. 2021-25978 Filed 11-29-21; 8:45 am]

BILLING CODE 7710-12-P